ENVIRONMENTAL PROTECTION AGENCY

40 CFR Part 745

[EPA-HQ-OPPT-2005-0049; FRL-7764-2]

Lead; Renovation, Repair, and Painting Program; Notice of Public Meetings

AGENCY: Environmental Protection Agency (EPA).

ACTION: Proposed rule; notice of public meetings.

SUMMARY: EPA is planning to hold five half-day public meetings in March and April of 2006. The purpose of these meetings is to receive comments from the public regarding proposed requirements to reduce exposure to lead hazards created by renovation, repair, and painting activities that disturb lead-based paint. This document announces the locations and times for the meetings, and explains meeting procedures. To assist the public, EPA has prepared a paper, Renovation, Repair, and Painting Proposal; Points to Consider, which lists the major issues on which the Agency is seeking public input. The paper is available in the docket for the proposed rule, and is also available at http://www.epa.gov/lead/pubs/renovation.htm.

DATES: See Unit III. of the Supplementary Information section for meeting dates.

ADDRESSES: See Unit III. of the Supplementary Information section for meeting locations.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address:TSCA-Hotline@epa.gov.

For technical information contact: Mike Wilson, National Program Chemicals Division (7404T), Office of Pollution Prevention and Toxics, Environmental Protection Agency, 1200 Pennsylvania Ave., NW., Washington, DC 20460-0001; telephone number: (202) 566-0521; e-mail address:wilson.mike@epa.gov.

SUPPLEMENTARY INFORMATION:

I. General Information

A. Does This Action Apply to Me?

This action is directed to the public in general. This action may be of particular interest to anyone who performs renovations of target housing for compensation or dust sampling. Target housing is defined in section 401 of the Toxic Substances Control Act (TSCA) as any housing constructed prior to 1978, except housing for the elderly or persons with disabilities (unless any child under age 6 resides or is expected to reside in such housing) or any 0-bedroom dwelling. Potentially affected entities may include, but are not limited to:

• Building construction (NAICS 236), e.g., single family housing construction, multi-family housing construction, residential remodelers.

• Specialty trade contractors (NAICS 238), e.g., plumbing, heating, and air-conditioning contractors, painting and wall covering contractors, electrical contractors, finish carpentry contractors, drywall and insulation contractors, siding contractors, tile and terrazzo contractors, glass and glazing contractors.

• Real estate (NAICS 531), e.g., lessors of residential buildings and dwellings, residential property managers.

• Other technical and trade schools (NAICS 611519), e.g., training providers.

• Engineering services (NAICS 541330) and building inspection services (NAICS 541350), e.g., dust sampling technicians.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in the regulatory text at § 745.82 of the proposed rule. If you have any questions regarding the applicability of this action to a particular entity, consult the technical person listed under FOR FURTHER INFORMATION CONTACT.

B. How Can I Get Copies of This Document and Other Related Information?

1. Docket. EPA has established a docket for this action under docket identification (ID) number EPA-HQ-OPPT-2005-0049. Publicly available docket materials are available electronically at http://www.regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr/.

II. Background

In the Federal Register of January 10, 2006 (71 FR 1588) (FRL-7755-5), EPA proposed new requirements to reduce exposure to lead hazards created by renovation, repair, and painting activities that disturb lead-based paint. The proposal supports the attainment of the Federal government's goal of eliminating childhood lead poisoning by 2010. The proposal would establish requirements for training renovators and dust sampling technicians; certifying renovators, dust sampling technicians, and renovation firms; accrediting providers of renovation and dust sampling technician training; and renovation work practices. These requirements would apply in “target housing,” defined in TSCA section 401 as any housing constructed before 1978, except housing for the elderly or persons with disabilities (unless any child under age 6 resides or is expected to reside in such housing) or any 0-bedroom dwelling.

Initially the rule would apply to all renovations for compensation performed in target housing where a child with an increased blood lead level resides; rental target housing built before 1960; and owner-occupied target housing built before 1960, unless the person performing the renovation obtains a statement signed by the owner-occupant that the renovation will occur in the owner's residence and that no child under age 6 resides there. EPA is proposing to phase in the applicability of this proposal to all rental target housing and owner-occupied target housing built in the years 1960 through 1977 where a child under age 6 resides. This proposal was issued under the authority of TSCA section 402(c)(3). EPA also proposed to allow interested States, Territories, and Indian Tribes the opportunity to apply for, and receive authorization to administer and enforce all of the elements of the new renovation provisions.

III. Meeting Dates and Locations

1. Dates. The meetings are scheduled to be held on the following dates:

a. In Chicago, IL on March 27, 2006, from 12:30 p.m. to 4:30 p.m.

b. In Washington, DC on March 29, 2006, from 1 p.m. to 5 p.m.

c. In New York, NY on March 30, 2006, from 1 p.m. to 5 p.m.

d. In Atlanta, GA on April 4, 2006, from 1 p.m. to 5 p.m.

e. In San Francisco, CA on April 6, 2006, from 1 p.m. to 5 p.m.

2. Locations. The meetings are scheduled to be held at the following locations:

a. In Chicago, IL at the Ralph Metcalfe Federal Building, Room 331, 77 West Jackson Blvd., Chicago, Il 60604.

b. In Washington, DC at the Environmental Protection Agency, EPA East, Room 1153, 1201 Constitution Ave., Washington, DC 20460.

c. In New York, NY at the Alexander Hamilton U.S. Custom House, Auditorium, 1 Bowling Green, New York, NY 10004.

d. In Atlanta, GA at the Atlanta Tradeport, Suite 104, 4244 International Parkway, Atlanta, GA 30354.

e. In San Francisco, CA at the Phillip Burton Federal Building & U.S. Courthouse, Nevada/California Conference Rooms, 450 Golden Gate Ave., San Francisco, CA 94102.

IV. Meeting Procedures

For additional information on the scheduled meetings contact the technical person listed under FOR FURTHER INFORMATION CONTACT. The meetings will be open to the public. Oral presentations or statements by interested parties will be limited to 10 minutes. Interested parties are encouraged to contact the technical person to schedule presentations. Since seating for outside observers may be limited, those wishing to attend the meetings as observers are also encouraged to contact the technical person at the earliest possible date to ensure adequate seating arrangements.

Individuals wishing to provide comments to EPA, but who cannot attend one of the public meetings, may submit written comments to EPA as indicated in the ADDRESSES section of the proposed regulation (71 FR 1588). EPA welcomes comments on all aspects of the proposal.

To assist the public to provide comments, EPA has prepared a paper, Renovation, Repair, and Painting Proposal; Points to Consider. This paper lists the major issues on which the Agency is seeking public input. The paper is available in the docket of the proposed rule (see Unit I.B.1. of this document for instructions on accessing the docket), and is also available at http://www.epa.gov/lead/pubs/renovation.htm.

List of Subjects in 40 CFR Part 745

Environmental protection, Housing renovation, Lead, Lead-based paint, Reporting and recordkeeping requirements.

Dated: February 20, 2006.
Wendy Cleland-Hamnett,
Acting Director, Office of Pollution Prevention and Toxics.

[FR Doc. 06-1784 Filed 2-24-06; 8:45 am]

BILLING CODE 6560-50-S